DEPARTMENT OF TRANSPORTATION

Federal Aviation Administration

14 CFR Part 39

[Docket No. 2003-SW-07-AD; Amendment 39-13358; AD 2003-22-10]

RIN 2120-AA64

Airworthiness Directives; Eurocopter France Model EC120B Helicopters

AGENCY: Federal Aviation Administration, DOT.

ACTION: Final rule.

SUMMARY: This amendment adopts a new airworthiness directive (AD) for the specified Eurocopter France model helicopters that requires operators to either temporarily or permanently secure the electrical bonding braid (bonding braid) that is installed on the left cyclic pitch control stick base within 10 hours time-in-service (TIS) and, if temporarily secured, installing a permanent attachment system for the bonding braid within 500 hours TIS or 12 months, whichever occurs first. This amendment is prompted by a report of a bonding braid twisting around the attachment nut installed on the bolt that connects the roll channel torque link to the left-hand cyclic pitch control stick. The actions specified by this AD are intended to prevent an unsecured bonding braid from restricting travel to the cyclic pitch control stick, and subsequent loss of control of the helicopter.

DATES: Effective December 10, 2003. The incorporation by reference of certain publications listed in the regulations is approved by the Director of the Federal Register as of December 10, 2003.

ADDRESSES: The service information referenced in this AD may be obtained from American Eurocopter Corporation, 2701 Forum Drive, Grand Prairie, Texas 75053-4005, telephone (972) 641-3460, fax (972) 641-3527. This information may be examined at the FAA, Office of the Regional Counsel, Southwest Region, 2601 Meacham Blvd., Room 663, Fort Worth, Texas; or at the Office of the Federal Register, 800 North capitol Street, NW., suite 700, Washington, DC.

FOR FURTHER INFORMATION CONTACT: Richard Monschke, Avaiation Safety Engineer, FAA, Rotorcraft Directorate, Rotorcraft Standards Staff, Fort Worth, Texas 76193-0110, telephone (817) 222-5116, fax (817) 222-5961.

SUPPLEMENTARY INFORMATION: A proposal to amend 14 CFR part 39 to include an AD for the specified model helicopters was published in the Federal Register on July 16, 2003 (68 FR 41967). That action proposed to require, within 10 hours TIS, temporarily or permanently securing the bonding braid using clamps, then, if not already accomplished, installing a permanent attachment system within 500 hours TIS or 12 months, whichever occurs first. Installing the permanent attachment system is a terminating action for the requirements of this AD.

The Direction Generale De L'Aviation Civile (DGAC), the airworthiness authority for France, notified the FAA that unsafe condition may exist on Eurocopter Model EC 120 B helicopters. The DGAC advises that there was a report involving twisting of a bonding braid at the base of a cyclic stick that restricted movement of the cyclic pitch sticks.

Eurocopter has issued Alert Telex No. 67A008, dated July 8, 2002, which specifies installing a clamp to position the bonding braid upwards and holding it against the cyclic pitch stick. DGAC classified this alert telex as mandatory and issued AD 2002-371-010(A), dated July 24, 2002, to ensure the continued airworthiness of these helicopters in France.

Interested persons have been afforded an opportunity to participate in the making of this amendment. No comments were received on the proposal or the FAA's determination of the cost to the public. The FAA has determined that air safety and the public interest require the adoption of the rule as proposed.

The FAA estimates that this AD will affect 80 helicopters of U.S. registry and the actions will take approximately 0.5 working hour per helicopter to accomplish the modification to temporarily secure the bonding braid, and 0.5 work hour to install a permanent attachment system. The average labor rate is $60 per work hour. Required parts will cost approximately $20 her helicopter. Based on these figures, we estimate the total cost impact of the AD on U.S. operators to be $6,400 for the entire fleet, assuming that all operators install the temporary restraint, and subsequently, install the permanent restraint.

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2003-22-10 Eurocopter France: Amendment 39-13358. Docket No. 2003-SW-07-AD.

Applicability: Model EC120B helicopters, certificated in any category.

Compliance: Required as indicated, unless accomplished previously.

To prevent an unsecured bonding braid from restricting travel of the cyclic pitch control stick, and subsequent loss of control of the helicopter, accomplish the following:

(a) Within 10 hours time-in-service (TIS), temporarily secure the electrical bonding braid or in stall the permanent attachment system for the bonding braid in accordance with the Accomplishment Instructions, paragraph 2.B., of Eurocopter France Alert Telex No. 67A008, dated July 8, 2002 (Alert Telex).

(b) Within 500 hours TIS or 12 months, whichever occurs first, install the permanent attachment system for the bonding braid in accordance with the Accomplishment Instructions, paragraph 2.B.2. and 2.B.3., of the Alert Telex.

(c) To request a different method of compliance or a different compliance time for this AD, follow the procedures in 14 CFR 39.19. Send the proposal to the Manager, Safety Management Group, FAA. Contact the Safety Management Group for information about previously approved alternative methods of compliance.

(d) The required actions shall be done in accordance with the Eurocopter France Alert Telex No. 67A008, dated July 8, 2002. The Director of the Federal Register approved this incorporation by reference in accordance with 5 U.S.C. 552(a) and 1 CFR part 51. Copies may be obtained from American Eurocopter Corporation, 2701 Forum Drive, Grand Prairie, Texas 75053-4005, telephone (972) 641-3460, fax, (972) 641-3527. Copies may be inspected at the FAA, Office of the Regional Counsel, Southwest Region, 2601 Meacham Blvd., Room 663, Fort Worth, Texas; or at the Office of the Federal Register, 800 North Capitol Street, NW., suite 700, Washington, DC.

(e) This amendment becomes effective on December 10, 2003.

Note: The subject of this AD is addressed in Direction Generale De L'Aviation (France) AD 2003-371-010(A), dated July 24, 2002.

Issued in Fort Worth, Texas, on October 24, 2003.
David A. Downey,
Manager, Rotorcraft Directorate, Aircraft Certification Service.

[FR Doc. 03-27542 Filed 11-4-03; 8:45 am]

BILLING CODE 4910-13-M